DEPARTMENT OF AGRICULTURE

Animal and Plant Health Inspection Service

7 CFR Part 301

[Docket No. APHIS-2006-0127]

Asian Longhorned Beetle; Additions to Quarantined Areas

AGENCY: Animal and Plant Health Inspection Service, USDA.

ACTION: Affirmation of interim rule as final rule.

SUMMARY: We are adopting as a final rule, without change, an interim rule that amended the Asian longhorned beetle regulations by expanding the boundaries of the quarantined areas in New Jersey and restricting the interstate movement of regulated articles from those areas. The interim rule was necessary to prevent the spread of the Asian longhorned beetle to noninfested areas of the United States.

DATES: Effective on November 5, 2007, we are adopting as a final rule the interim rule published at 71 FR 59649-59651 on October 11, 2006.

FOR FURTHER INFORMATION CONTACT: Mr. Michael B. Stefan, ALB National Coordinator, Emergency and Domestic Programs, PPQ, APHIS, 4700 River Road Unit 134, Riverdale, MD 20737-1231; (301) 734-7338.

SUPPLEMENTARY INFORMATION:

Background

The regulations in 7 CFR 301.51-1 through 301.51-9 (referred to below as the regulations) restrict the interstate movement of regulated articles from quarantined areas to prevent the artificial spread of the Asian longhorned beetle (ALB) to noninfested areas of the United States. Quarantined areas are listed in § 301.51-3(c) of the regulations.

In an interim rule ¹ effective October 4, 2006, and published in the Federal Register on October 11, 2006 (71 FR 59649-59651, Docket No. APHIS-2006-0127), we amended the list of quarantined areas in § 301.51-3(c) to include the City of Linden in Union County, NJ, as well as portions of the Borough of Roselle, the City of Elizabeth, and Clark Township, also in Union County. In addition, we also expanded the quarantined area in the City of Carteret in Middlesex County, NJ.

¹ To view the interim rule and the comment we received, go to http://www.regulations.gov/fdmspublic/component/main?main=DocketDetail&d=APHIS-2006-0127.

Comments on the interim rule were required to be received on or before December 11, 2006. We received one comment by that date, from a scientific organization.

Although the commenter acknowledged that the regulations allow us to designate less than an entire State as a quarantined area, the commenter suggested that the spread of ALB within New Jersey was too unpredictable, and the possible damage too substantive, to allow us to quarantine less than the entire State of New Jersey.

We are making no change in response to this comment. Dispersal and flight ability studies for ALB indicate that 99 percent of the beetle's movement occurs within one-half mile of an infested tree. The quarantined area within New Jersey extends approximately 1.5 miles in every direction from each infested tree. In addition, State and Federal plant health authorities have removed high-risk host trees, applied chemical treatments, and conducted extensive ground surveys of the quarantined area, in accordance with guidelines developed by scientists and program managers with experience in pest management and control, and ALB. APHIS believes that these measures effectively preclude the natural spread of ALB from the quarantined area.

In addition, a number of measures have been taken to prevent the artificial spread of ALB from the quarantined area. In the interim rule, we restricted the interstate movement of regulated articles from the area. This measure augmented existing State regulations restricting the intrastate movement of regulated articles from a quarantined area. We have also conducted an extensive outreach campaign in the region around the quarantined area to educate the public to the dangers posed by the artificial spread of ALB.

We believe these interlocking safeguards are adequate to mitigate the risk of the natural or artificial spread of ALB from the quarantined area.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

Accordingly, we are adopting as a final rule, without change, the interim rule that amended 7 CFR part 301 and that was published at 71 FR 59649-59651 on October 11, 2006.

Done in Washington, DC, this 30th day of October 2007.
Kevin Shea,
Acting Administrator, Animal and Plant Health Inspection Service.

[FR Doc. E7-21684 Filed 11-2-07; 8:45 am]

BILLING CODE 3410-34-P